DEPARTMENT OF ENERGY

Federal Energy Regulatory Commission

Combined Notice of Filings #1

Take notice that the Commission received the following exempt wholesale generator filings:

Docket Numbers: EG12-83-000.

Applicants: AV Solar Ranch 1, LLC.

Description: Self-Certification of EG of AV Solar Ranch 1, LLC.

Filed Date: 7/2/12.

Accession Number: 20120702-5182.

Comments Due: 5 p.m. ET 7/23/12.

Take notice that the Commission received the following electric rate filings:

Docket Numbers: ER10-1817-003; ER10-1819-003; ER10-1820-005; ER10-1818-002.

Applicants: Southwestern Public Service Company, Northern States Power Company, a Minnesota corporation, Northern States Power Company, a Wisconsin corporation, Public Service Company of Colorado.

Description: Triennial Market Power Analysis and Change in Status Report of Southwestern Public Service Company, et al.

Filed Date: 6/29/12.

Accession Number: 20120629-5294.

Comments Due: 5 p.m. ET 8/28/12.

Docket Numbers: ER10-1827-002; ER10-1825-002.

Applicants: Cleco Power LLC, Cleco Evangeline LLC.

Description: Cleco Power LLC, et al. submits Triennial Market Power Analysis.

Filed Date: 7/2/12.

Accession Number: 20120702-5314.

Comments Due: 5 p.m. ET 8/31/12.

Docket Numbers: ER10-3069-003; ER10-3070-003.

Applicants: Alcoa Power Generating, Inc., Alcoa Power Marketing LLC.

Description: Updated Market Power Analysis of Alcoa Power Generating Inc. and Alcoa Power Marketing LLC.

Filed Date: 6/29/12.

Accession Number: 20120629-5293.

Comments Due: 5 p.m. ET 8/28/12.

Docket Numbers: ER12-1339-001.

Applicants: Carolina Power & Light Company.

Description: Carolina Power & Light Company submits tariff filing per 35: Revised Rate Schedule No. 192 of Carolina Power and Light Company to be effective 7/2/2012.

Filed Date: 7/2/12.

Accession Number: 20120702-5264.

Comments Due: 5 p.m. ET 7/23/12.

Docket Numbers: ER12-1340-001.

Applicants: Carolina Power & Light Company.

Description: Carolina Power & Light Company submits tariff filing per 35: Revised Rate Schedule No. 193 of Carolina Power and Light Company to be effective 7/2/2012.

Filed Date: 7/2/12.

Accession Number: 20120702-5267.

Comments Due: 5 p.m. ET 7/23/12.

Docket Numbers: ER12-1341-001.

Applicants: Carolina Power & Light Company.

Description: Carolina Power & Light Company submits tariff filing per 35: Revised Rate Schedule No. 194 of Carolina Power and Light Company to be effective 7/2/2012.

Filed Date: 7/2/12.

Accession Number: 20120702-5271.

Comments Due: 5 p.m. ET 7/23/12.

Docket Numbers: ER12-1342-001.

Applicants: Duke Energy Carolinas, LLC.

Description: Duke Energy Carolinas, LLC submits tariff filing per 35: PSA Compliance Filing July 2 Effective Date to be effective 7/2/201.

Filed Date: 7/2/12.

Accession Number: 20120702-5252.

Comments Due: 5 p.m. ET 7/23/12.

Docket Numbers: ER12-1408-002.

Applicants: Consolidated Edison Company of New York, Inc.

Description: Amendment to RY3 WDS filing to be effective 4/1/2012.

Filed Date: 7/2/12.

Accession Number: 20120702-5002.

Comments Due: 5 p.m. ET 7/23/12.

Docket Numbers: ER12-1455-001.

Applicants: ISO New England Inc., New England Power Pool Participants Committee.

Description: ISO New England Inc. submits tariff filing per 35: Rev. to MR1 in Comp. with Order Accept Tariff Revisions to be effective 8/31/2012.

Filed Date: 7/2/12.

Accession Number: 20120702-5200.

Comments Due: 5 p.m. ET 7/23/12.

Docket Numbers: ER12-1926-001.

Applicants: Union Atlantic Electricity.

Description: Union Atlantic Electricity submits tariff filing per 35.17(b): Amended MBR Tariff Filing to be effective 6/30/2012.

Filed Date: 7/2/12.

Accession Number: 20120702-5237.

Comments Due: 5 p.m. ET 7/23/12.

Docket Numbers: ER12-2174-000.

Applicants: PJM Interconnection, LLC.

Description: PJM Interconnection, LLC submits tariff filing per 35.13(a)(2)(iii): Filing of First Revised Service Agreement No. 2924; Queue No. W2-016 to be effective 6/7/2012.

Filed Date: 7/2/12.

Accession Number: 20120702-5031.

Comments Due: 5 p.m. ET 7/23/12.

Docket Numbers: ER12-2175-000.

Applicants: El Paso Electric Company.

Description: El Paso Electric Company submits tariff filing per 35: LGIA with Mescalero Ridge to be effective 6/1/2012.

Filed Date: 7/2/12.

Accession Number: 20120702-5109.

Comments Due: 5 p.m. ET 7/23/12.

Docket Numbers: ER12-2176-000.

Applicants: Southwest Power Pool, Inc.

Description: Southwest Power Pool, Inc. submits tariff filing per 35.13(a)(2)(iii): 1906R1 Municipal Energy Agency of Nebraska NITSA NOA to be effective 6/1/2012.

Filed Date: 7/2/12.

Accession Number: 20120702-5123.

Comments Due: 5 p.m. ET 7/23/12.

Docket Numbers: ER12-2177-000.

Applicants: PJM Interconnection, LLC.

Description: PJM Interconnection, LLC submits tariff filing per 35.13(a)(2)(iii): PJM Service Agreement No. 3346—NITSA among ODEC and PJM to be effective 9/1/2012.

Filed Date: 7/2/12.

Accession Number: 20120702-5129.

Comments Due: 5 p.m. ET 7/23/12.

Docket Numbers: ER12-2178-000.

Applicants: AV Solar Ranch 1, LLC.

Description: AV Solar Ranch 1, LLC submits tariff filing per 35.12: Application for Market-Based Rate Authority to be effective 7/3/2012.

Filed Date: 7/2/12.

Accession Number: 20120702-5136.

Comments Due: 5 p.m. ET 7/23/12.

Docket Numbers: ER12-2179-000.

Applicants: PJM Interconnection, LLC.

Description: PJM Interconnection, LLC submits tariff filing per 35.13(a)(2)(iii): Queue Position #None—Original Service Agreement No. 3345 to be effective 6/1/2012.

Filed Date: 7/2/12.

Accession Number: 20120702-5239.

Comments Due: 5 p.m. ET 7/23/12.

Docket Numbers: ER12-2180-000.

Applicants: PJM Interconnection, LLC.

Description: PJM Interconnection, LLC submits tariff filing per 35.13(a)(2)(iii): Queue Position W4-082; Original Service Agreement No. 3326 to be effective 6/1/2012.

Filed Date: 7/2/12.

Accession Number: 20120702-5244.

Comments Due: 5 p.m. ET 7/23/12.

Docket Numbers: ER12-2181-000.

Applicants: PJM Interconnection, LLC.

Description: PJM Interconnection, LLC submits tariff filing per 35.13(a)(2)(iii): Original Service Agreement No. 3333; Queue No. W3-003 to be effective 6/7/2012.

Filed Date: 7/2/12.

Accession Number: 20120702-5266.

Comments Due: 5 p.m. ET 7/23/12.

Docket Numbers: ER12-2182-000.

Applicants: PacifiCorp.

Description: PacifiCorp submits tariff filing per 35.13(a)(2)(iii): BPA NITSA (Yakama) to be effective 8/1/2012.

Filed Date: 7/2/12.

Accession Number: 20120702-5269.

Comments Due: 5 p.m. ET 7/23/12.

Docket Numbers: ER12-2183-000.

Applicants: PJM Interconnection, LLC.

Description: PJM Interconnection, LLC submits tariff filing per 35.13(a)(2)(iii): PJM Service Agreement No. 3347—NITSA among NCEMC and PJM to be effective 9/1/2012.

Filed Date: 7/2/12.

Accession Number: 20120702-5273.

Comments Due: 5 p.m. ET 7/23/12.

Docket Numbers: ER12-2184-000.

Applicants: Wisconsin Electric Power Company.

Description: Wisconsin Electric Power Company submits tariff filing per 35.13(a)(2)(iii): Formula Rate Wholesale Sales Tariff revisions to be effective 9/1/2012.

Filed Date: 7/2/12.

Accession Number: 20120702-5276.

Comments Due: 5 p.m. ET 7/23/12.

Docket Numbers: ER12-2185-000.

Applicants: Wisconsin Electric Power Company.

Description: Wisconsin Electric Power Company submits tariff filing per 35.13(a)(2)(iii): Rate Schedule FERC No. 90 revisions to be effective 9/1/2012.

Filed Date: 7/3/12.

Accession Number: 20120703-5000.

Comments Due: 5 p.m. ET 7/24/12.

Docket Numbers: ER12-2186-000.

Applicants: ISO New England Inc.

Description: ISO New England Inc. submits Cambridge Energy Alliance Resource Terminations.

Filed Date: 7/2/12.

Accession Number: 20120702-5321.

Comments Due: 5 p.m. ET 7/23/12.

Docket Numbers: ER12-2187-000.

Applicants: ISO New England Inc.

Description: ISO New England Inc. submits Ameresco DR LLC Resource Termination.

Filed Date: 7/2/12.

Accession Number: 20120702-5322.

Comments Due: 5 p.m. ET 7/23/12.

Docket Numbers: ER12-2188-000.

Applicants: ISO New England Inc.

Description: ISO New England Inc. Ampersand Energy Partners LLC Resource Terminations.

Filed Date: 7/2/12.

Accession Number: 20120702-5323.

Comments Due: 5 p.m. ET 7/23/12.

Docket Numbers: ER12-2189-000.

Applicants: ISO New England Inc.

Description: ISO New England Inc. Commonwealth of Massachusetts Resource Terminations.

Filed Date: 7/2/12.

Accession Number: 20120702-5324.

Comments Due: 5 p.m. ET 7/23/12.

Docket Numbers: ER12-2190-000.

Applicants: ISO New England Inc.

Description: ISO New England Inc. CLP Resource Terminations.

Filed Date: 7/2/12.

Accession Number: 20120702-5325.

Comments Due: 5 p.m. ET 7/23/12.

Docket Numbers: ER12-2191-000.

Applicants: ISO New England Inc.

Description: ISO New England Inc. Constellation Resource Terminations.

Filed Date: 7/2/12.

Accession Number: 20120702-5326.

Comments Due: 5 p.m. ET 7/23/12.

Docket Numbers: ER12-2192-000.

Applicants: ISO New England Inc.

Description: ISO New England Inc. EnerNOC Resource Terminations.

Filed Date: 7/2/12.

Accession Number: 20120702-5327.

Comments Due: 5 p.m. ET 7/23/12.

Docket Numbers: ER12-2194-000.

Applicants: Oklahoma Gas and Electric Company.

Description: Oklahoma Gas and Electric Company submits tariff filing per 35.37: Updated Market Power Analysis to be effective 8/28/2012.

Filed Date: 7/2/12.

Accession Number: 20120702-5336.

Comments Due: 5 p.m. ET 7/23/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 3, 2012.
Nathaniel J. Davis, Sr.,
Deputy Secretary.

[FR Doc. 2012-16957 Filed 7-11-12; 8:45 am]

BILLING CODE 6717-01-P